DEPARTMENT OF THE INTERIOR

Fish and Wildlife Service

[FWS-R6-ES-2012-N054; FXES11130600000D2-123-FF06E00000]

Endangered and Threatened Wildlife and Plants; Recovery Permit Applications

AGENCY: Fish and Wildlife Service, Interior.

ACTION: Notice of availability; request for comments.

SUMMARY: We, the U.S. Fish and Wildlife Service (Service), invite the public to comment on the following applications to conduct certain activities with endangered or threatened species. The Endangered Species Act of 1973, as amended (Act), prohibits activities with endangered and threatened species unless a Federal permit allows such activity. The Act also requires that we invite public comment before issuing these permits.

DATES: To ensure consideration, please send your written comments by April 19, 2012.

ADDRESSES: You may submit comments or requests for copies or more information by any of the following methods. Alternatively, you may use one of the following methods to request hard copies or a CD-ROM of the documents. Please specify the permit you are interested in by number (e.g., Permit No. TE-123456).

• Email: permitsR6ES@fws.gov. Please refer to the respective permit number (e.g., Permit No. TE-123456) in the subject line of the message.

• U.S. Mail: Ecological Services, U.S. Fish and Wildlife Service, P.O. Box 25486-DFC, Denver, CO 80225

• In-Person Drop-off, Viewing, or Pickup: Call (303) 236-4256 to make an appointment during regular business hours at 134 Union Blvd., Suite 645, Lakewood, CO 80228.

FOR FURTHER INFORMATION CONTACT: Kris Olsen, Permit Coordinator Ecological Services, (303) 236-4256 (phone); permitsR6ES@fws.gov (email).

SUPPLEMENTARY INFORMATION:

Background

The Act (16 U.S.C. 1531 et seq.) prohibits certain activities with endangered and threatened species unless a Federal permit allows such activity. Along with our implementing regulations in the Code of Federal Regulations (CFR) at 50 CFR part 17, the Act provides for permits to allow such otherwise prohibited activities, and requires that we invite public comment before issuing these permits.

A permit granted by the Service under section 10(a)(1)(A) of the Act authorizes you to conduct activities with U.S. endangered or threatened species for scientific purposes, enhancement of propagation or survival, or interstate commerce (the latter only in the event that it facilitates scientific purposes or enhancement of propagation or survival). Our regulations implementing section 10(a)(1)(A) for these permits are found at 50 CFR 17.22 for endangered wildlife species, 50 CFR 17.32 for threatened wildlife species, 50 CFR 17.62 for endangered plant species, and 50 CFR 17.72 for threatened plant species.

Applications Available for Review and Comment

We invite local, State, and Federal agencies, and the public to comment on the following applications. Please refer to the appropriate permit number (e.g., Permit No. TE-123456) for the application when submitting comments.

Documents and other information the applicants have submitted with these applications are available for review, subject to the requirements of the Privacy Act (5 U.S.C. 552a) and Freedom of Information Act (5 U.S.C. 552).

Permit Application Number: TE-015150

Applicant: Wyatt Hoback, University of Nebraska, Kearney, Nebraska.

The applicant requests renewal of an existing permit to take (capture, hold, tag, and propagate) American burying beetle (Nicrophorus americanus) in conjunction with surveys and population monitoring activities in Nebraska, South Dakota, Kansas, Oklahoma, Arkansas, and Texas for the purpose of enhancing the species' survival.

Permit Application Number: TE-056165

Applicant: Patricia Buys, Kleinfelder, Littleton, Colorado.

The applicant requests renewal of an existing permit to take (harass by survey) Southwestern willow flycatcher (Empidonax traillii extimus)in conjunction with surveys and population monitoring activities in Colorado, Utah, and Wyoming for the purpose of enhancing the species' survival.

Permit Application Number: TE-050704

Applicant: T. Michael Phelan, Cedar Creek Associates, Ft. Collins, Colorado.

The applicant requests renewal of an existing permit to take (harass by survey) Southwestern willow flycatcher (Empidonax traillii extimus) in conjunction with surveys and population monitoring activities in Colorado, Utah, and Wyoming for the purpose of enhancing the species' survival.

Permit Application Number: TE-051841

Applicant: William Rapley, Toronto Zoo, Ontario, Canada.

The applicant requests renewal of an existing permit to take (display and propagate) captive-bred black-footed ferret (Mustela nigripes) in Ontario, Canada, for the purpose of enhancing the species' survival.

Permit Application Number: TE-051826

Applicant: John Walczak, Louisville Zoo, Louisville, Kentucky.

The applicant requests renewal of an existing permit to take (display) captive-bred black-footed ferret (Mustela nigripes) in Louisville, Kentucky, for the educational purposes to enhance the species' survival.

Permit Application Number: TE-085324

Applicant: Bonnie Heidel, Wyoming Natural Diversity Database, Laramie, Wyoming.

The applicant requests renewal of an existing permit to take (harass by survey) Penstemon haydenii (Blowout penstemon) in conjunction with surveys and population monitoring activities throughout the range of each species in Wyoming for the purpose of enhancing the species' survival.

Permit Application Number: TE-052627

Applicant: Anne Baker, Toledo Zoological Gardens, Toledo, Ohio 43614.

The applicant requests renewal of an existing permit to take (capture, hold, tag, and propagate) Wyoming toad (Bufo baxteri) in conjunction with surveys and population monitoring activities in Ohio for the purpose of enhancing the species' survival.

Permit Application Number: TE-145090

Applicant: Daniel Roddy, Wind Cave National Park, Hot Springs, South Dakota.

The applicant requests renewal of an existing permit to take (survey, tag, and reintroduce) black-footed ferret (Mustela nigripes) in conjunction with population monitoring activities in South Dakota for the purpose of enhancing the species' survival.

Permit Application Number: TE-051368

Applicant: Brian Kurzel, Colorado Parks and Wildlife, Colorado Natural Areas Program, Denver, Colorado.

The applicant requests renewal of an existing permit to remove and reduce to possession the following species, in conjunction with surveys and population monitoring for the purpose of enhancing each species' survival. Activities will occur on Federal lands in Colorado, throughout the range of each species.

Eriogonum pelinophilum (Clay-loving wild-buckwheat).

Astragalus humillimus (Mancos milk-vetch).

Phacelia formosula (North Park phacelia).

Astragalus osterhoutii (Osterhout milk-vetch).

Ipomopsis polyantha (Pagosa skyrocket).

Penstemon penlandii (Penland beardtongue).

Permit Application Number: TE-106182

Applicant: Brian Vogt, Denver Botanic Gardens, Denver, Colorado.

The applicant requests renewal of an existing permit to remove and reduce to possession the following species, in conjunction with surveys and population monitoring for the purpose of enhancing each species' survival. Activities will occur on Federal lands in Colorado, New Mexico, Utah, and Wyoming, throughout the range of each species.

Eriogonum pelinophilum (Clay-loving wild-buckwheat).

Pediocactus knowltonii (Knowlton cactus).

Astragalus humillimus (Mancos milk-vetch).

Phacelia formosula (North Park phacelia).

Astragalus osterhoutii (Osterhout milk-vetch).

Ipomopsis polyantha (Pagosa skyrocket).

Penstemon penlandii (Penland beardtongue).

Pediocactus despainii (San Rafael cactus).

Permit Application Number: TE-049109

Applicant: Rita Reisor, Red Butte Garden and Arboretum, Salt Lake City, Utah.

The applicant requests renewal of an existing permit to remove and reduce to possession the following species, in conjunction with surveys and population monitoring for the purpose of enhancing each species' survival. Activities will occur on Federal lands in Utah and Wyoming, throughout the range of each species.

Ranunculus acriformis aestivalis (Autumn buttercup).

Schoenocrambe barnebyi (Barneby reed-mustard).

Lepidium barnebyanum (Barneby ridge-cress).

Astragalus holmgreniorum (Holmgren milk-vetch).

Lesquerella tumulosa (Kodachrome bladderpod).

Pediocactus despainii (San Rafael cactus).

Astragalus ampullarioides (Shivwitz milk-vetch).

Schoenocrambe suffrutescens (Shrubby reed-mustard).

Sclerocactus wrightiae (Wright fishhook cactus).

Permit Application Number: TE-053925

Applicant: Lisa Yager, National Park Service, Missouri National Recreational River, Yankton, South Dakota.

The applicant requests renewal of an existing permit to take (harass by survey) interior least tern (Sterna antillarum athalassos) and piping plover (Charadrius melodus) in conjunction with population monitoring activities in Nebraska and South Dakota for the purpose of enhancing the species' survival.

Permit Application Number: TE-053961

Applicant: Dennis Pate, Omaha's Henry Doorly Zoo, Omaha, Nebraska.

The applicant requests renewal of an existing permit to take (collect, reintroduce, propagate, and rear) Salt Creek tiger beetle (Cicindela nevadica lincolniana) in conjunction with surveys and population monitoring activities in Ohio for the purpose of enhancing the species' survival.

Permit Application Number: TE-051139

Applicant: Dustin Long, Turner Endangered Species Fund, Bozeman, Montana.

The applicant requests renewal of an existing permit to take (survey, trap, tag, and propagate) black-footed ferret (Mustela nigripes) in conjunction with surveys and population monitoring activities in Montana for the purpose of enhancing the species' survival.

Permit Application Number: TE-121914

Applicant: Mark Sherfy, U.S. Geological Survey, Northern Prairie Wildlife Research Center, Jamestown, North Dakota.

The applicant requests renewal of an existing permit to take (survey, handle, and band) interior least tern (Sterna antillarum athalassos) and piping plover (Charadrius melodus) in conjunction with surveys and population monitoring activities in Colorado, Kansas, Montana, Nebraska, North Dakota, and South Dakota for the purpose of enhancing the species' survival.

Permit Application Number: TE-059105

Applicant: Pamela Riddle, Bureau of Land Management, Moab Field Office, Moab, Utah.

The applicant request renewal of an existing permit to take (harass by survey) Mexican spotted owl (Strix occidentalis lucida) and Southwestern willow flycatcher (Empidonax traillii extimus) in conjunction with surveys and population monitoring activities in Utah for the purpose of enhancing the species' survival.

National Environmental Policy Act

In compliance with the National Environmental Policy Act (42 U.S.C. 4321 et seq.), we have made an initial determination that the proposed activities in these permits are categorically excluded from the requirement to prepare an environmental assessment or environmental impact statement (516 DM 6 Appendix 1, 1.4C(1)).

Public Availability of Comments

All comments and materials we receive in response to this request will be available for public inspection, by appointment, during normal business hours at the address listed in the ADDRESSES section of this notice.

Before including your address, phone number, email address, or other personal identifying information in your comment, you should be aware that your entire comment—including your personal identifying information—may be made publicly available at any time. While you can ask us in your comment to withhold your personal identifying information from public review, we cannot guarantee that we will be able to do so.

Authority

We provide this notice under section 10 of the Act (16 U.S.C. 1531 et seq.).

Dated: March 7, 2012.
Michael G. Thabault,
Acting Regional Director, Mountain-Prairie Region.

[FR Doc. 2012-6535 Filed 3-19-12; 8:45 am]

BILLING CODE 4310-55-P